FEDERAL EMERGENCY MANAGEMENT AGENCY

44 CFR Part 67

[Docket No. FEMA-D-7516]

Proposed Flood Elevation Determinations

AGENCY: Federal Emergency Management Agency, FEMA.

ACTION: Proposed rule.

SUMMARY: Technical information or comments are requested on the proposed base (1% annual chance) flood elevations and proposed base flood elevation modifications for the communities listed below. The base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Matthew B. Miller, P.E., Chief, Hazards Study Branch, Federal Insurance and Mitigation Administration, Federal Emergency Management Agency, 500 C Street SW., Washington, DC 20472, (202) 646-3461, or (email) matt.miller@fema.gov.

SUPPLEMENTARY INFORMATION: The Federal Emergency Management Agency (FEMA or Agency) proposes to make determinations of base flood elevations and modified base flood elevations for each community listed below, in accordance with Section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Acting Administrator, Federal Insurance and Mitigation Administration, certifies that this proposed rule is exempt from the requirements of the Regulatory Flexibility Act because proposed or modified base flood elevations are required by the Flood Disaster Protection Act of 1973, 42 U.S.C. 4104, and are required to establish and maintain community eligibility in the NFIP. As a result, a regulatory flexibility analysis has not been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, flood insurance, reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | #Depth in feet above ground. *Elevation in feet (NGVD): Existing | #Depth in feet above ground. *Elevation in feet (NGVD): Modified
Florida | Franklin County (Unincorporated Areas) | Apalachicola Bay | Approximately 2.6 miles southeast of West Pass | *7 | *8
|  |  | Approximately 4.1 miles southwest of Government Cut in St. George Island | *7 | *10
|  | St. George Sound | Just east of St. George Island Bridge | *9 | *10
|  |  | Shoreline of St. George Island at (and include) Marsh Island | *15 | *12
|  | Gulf of Mexico | Approximately 2.6 miles southeast of West Pass | *7 | *8
|  |  | Approximately 1.5 miles southeast of the confluence of Big Claires Creek with Ochlockonee Bay | *21 | *23
|  | Alligator Harbor | Approximately 1,000 feet north of the intersection of State Route 370 and West Harbor Road | *15 | *16
|  |  | Approximately 900 feet east of Peninsula Point | *18 | *17
Maps available for inspection at the Planning and Engineering Department, 33 Commerce Street, Apalachicola, Florida.
Send comments to Mr. Tim Turner, Director of the Franklin County Emergency Management Agency, 33 Commerce Street, Apalachicola, Florida 32320.
Florida | Minneola (City), Lake County | Plum Lake | Entire shoreline within county | *84 | *87
|  | Ponding Area 535-1 |  | None | *100
|  | Ponding Area 535-2 |  | None | *99
|  | Little Grassy Lake | Approximately 0.55 mile northeast of the intersection of Perl Street and Galena Avenue | None | *90
|  | Grassy Lake | Entire shoreline within county | None | *85
Maps available for inspection at the Minneola City Hall, 302 West Pearl Street, Minneola, Florida.
Send comments to The Honorable Glenn A. Irby, Mayor of the City of Minneola, P.O. Box 678, Minneola, Florida 34755.
Illinois | Elburn (Village), Kane County | Blackberry Creek | At the confluence of Blackberry Creek Tributary D | None | *741
|  |  | Approximately 1,050 feet upstream of Hughes Road | None | *747
|  | Blackberry Creek Tributary D | Approximately 600 feet upstream of confluence with Blackberry Creek | None | *742
|  |  | Approximately 2,550 feet downstream of Keslinger Road | None | *799
Maps available for inspection at the Elburn Village Hall, 301 East North Street, Elburn, Illinois.
Send comments to Mr. James Willey, President of the Village of Elburn Board of Trustees, 301 East North Street, Elburn, Illinois 60119.
Illinois | Elgin (City), Kane County | Sandy Creek | At Randall Road | *821 | *826
|  |  | Approximately 325 feet upstream of Randall Road | None | *826
|  | Tyler Creek | Approximately 500 feet upstream of confluence with Fox River | *716 | *715
|  |  | Approximately 120 feet downstream of Soo Line Railroad | None | *839
Maps available for inspection at City of Elgin Public Works Department, Engineering Division, 150 Dexter Court, Elgin, Illinois.
Send comments to Ms. Joyce Parker, Elgin City Manager, 150 Dexter Court, Elgin, Illinois 60120.
Illinois | Gilberts (Village), Kane County | Tyler Creek | Just upstream of Big Timber Road | None | *867
|  |  | Approximately 200 feet downstream of McCornack Road | None | *886
Maps available for inspection at the Gilberts Village Hall, 86 Railroad Street, Gilberts, Illinois.
Send comments to Mr. Mike Isitoro, Gilberts Village President, 86 Railroad Street, Gilberts, Illinois 60136.
Illinois | Kane County (Unincorporated Areas) | Blackberry Creek Tributary F | Approximately 0.6 mile upstream of confluence with Blackberry Creek Tributary B | *704 | *703
|  |  | Approximately 250 feet downstream of Bliss Road | *728 | *727
|  | Main Street Ditch | At confluence with Blackberry Creek Tributary F | None | *707
|  |  | Approximately 130 feet upstream of Main Street | None | *709
|  | Tyler Creek | Approximately 375 feet downstream of Eagle Road East | *791 | *793
|  |  | Approximately 200 feet upstream of Illinois Route 72 | None | *898
|  | Pingree Creek | At confluence with Tyler Creek | None | *893
|  |  | Approximately 325 feet upstream of U.S. Route 20 | None | *906
|  | Mastadon Lake | Approximately 300 feet southeast of the intersection of Parker Avenue and Hinman Street | None | *662
|  | Sandy Creek | Approximately 130 feet downstream of Randall Road | *820 | *821
|  |  | Just downstream of U.S. Route 20 | None | *889
|  | Indian Creek | Approximately 0.41 mile upstream of Wood Street | None | *676
|  |  | At downstream side of East-West Tollway | None | *717
|  | Indian Creek Tributary B | Approximately 0.61 mile upstream of confluence with Indian Creek | None | *716
|  |  | Approximately 0.86 mile upstream of confluence with Indian Creek | None | *716
|  | South Tributary | At confluence with Indian Creek | None | *684
|  |  | Approximately 680 feet upstream of confluence with Indian Creek | None | *688
|  | Welch Creek | Approximately 1,110 feet downstream of Fay's Lane | None | *680
|  |  | Just upstream of Burlington Northern Railroad | None | *692
|  | Welch Creek Tributary 1 | Just upstream of Aurora Municipal Airport | None | *693
|  |  | Approximately 2,600 feet upstream of Aurora Municipal Airport | None | *694
|  | Blackberry Creek Tributary H | Approximately 750 feet southwest of Lake View Court and Lake View Drive intersection | None | *670
|  | Selmarten Creek | At confluence with Indian Creek | *715 | *716
|  |  | At county boundary | *718 | *720
Maps available for inspection at the Kane County Water Resources Department, Kane County Government Center Building “A,” 719 Batavia Avenue, Geneva, Illinois.
Send comments to Mr. Michael W. McCoy, Chairman of the Kane County Board of Commissioners, 719 Batavia Avenue, Geneva, Illinois 60134.
Illinois | Lily Lake (Village), Kane County | Ferson Creek | Approximately 100 feet downstream of Great Western Trail Railroad | None | *862
|  |  | Just downstream of Route 64 | None | *872
Maps available for inspection at the Lily Lake Village Hall, 43W680 Empire Road, St. Charles, Illinois.
Send comments to Mr. Glenn Bork, Lily Lake Village President, 44W508 I.C. Trail, Lily Lake, Illinois 60151.
Illinois | Montgomery (Village), Kane County | Blackberry Creek Tributary G | Approximately 2,050 feet downstream of Aucutt Road | None | *661
|  |  | Approximately 550 feet downstream of Jericho Road | None | *666
|  | Blackberry Creek | Approximately 0.4 mile downstream of Jericho Road | None | *664
|  |  | At Jericho Road | None | *666
Maps available for inspection at the Montgomery Village Clerk's Office, 1300 South Broadway, Montgomery, Illinois.
Send comments to Ms. Marilyn Michelini, Montgomery Village President, 1300 South Broadway, Montgomery, Illinois 60538.
Illinois | Pingree Grove (Village), Kane County | Pingree Creek | Approximately 1,000 feet upstream of Highland Avenue | None | *901
|  |  | Approximately 800 feet upstream of Soo Line Railroad | None | *902
Maps available for inspection at the Pingree Grove Village Hall, 14N042 Reinking Road, Hampshire, Illinois.
Send comments to Mr. Vern Wester, President of the Village of Pingree Grove Board, 14N042 Reinking Road, Hampshire, Illinois 60140.
Illinois | Sugar Grove (Village), Kane County | Blackberry Creek | Approximately 1,050 feet upstream of Densmore Road | None | *678
|  |  | Approximately 1,800 feet upstream of Bliss Road | None | *690
|  | Blackberry Creek Tributary E | At confluence with Blackberry Creek | None | *680
|  |  | At Mankes Road | None | *680
Maps available for inspection at the Sugar Grove Village Office, 10 Municipal Drive, Sugar Grove, Illinois.
Send comments to Mr. P. Sean Michels, Sugar Grove Village President, 10 Municipal Drive, Sugar Grove, Illinois 60554.
Massachusetts | Malden (City), Middlesex County | Town Line Brook | Approximately 1,000 feet downstream of corporate limits | None | *9
|  |  | Approximately 500 feet upstream of Lynn Street | *8 | *9
|  | Linden Brook | Approximately 250 feet downstream of corporate limits | None | *9
|  |  | On downstream side of Beach Street | None | *9
Maps available for inspection at the Malden Engineering Office, Malden City Hall, 200 Pleasant Street, Malden, Massachusetts.
Send comments to The Honorable Richard C. Howard, Mayor of the City of Malden, Malden City Hall, 200 Pleasant Street, Malden, Massachusetts 02148.
Massachusetts | Revere (City), Suffolk County | Town Line Brook | Approximately 100 feet east of intersection of Washington Avenue and Squire Road | None | *9
|  | Linden Brook | Approximately 180 feet south of the intersection of Lynn Street and Adamski Memorial Highway | None | *9
Maps available for inspection at the Revere Planning Office, 281 Broadway, Revere, Massachusetts.
Send comments to The Honorable Thomas Ambrosino, Mayor of the City of Revere, City Hall, 281 Broadway, Revere, Massachusetts 02151.
New Hampshire | Errol (Town), Coos County | Akers Pond | Entire shoreline within community | None | *1,231
Maps available for inspection at the Errol Town Office Building, 33 Main Street, Errol, New Hampshire.
Send comments to Mr. Larry S. Enman, Chairman of the Town of Errol Board of Selectmen, P.O. Box 100, Errol, New Hampshire 03579.
New Hampshire | Nashua (City), Hillsborough County | Nashua River | At the downstream side of B&M Railroad bridge | *115 | *114
|  |  | Approximately 0.75 mile upstream of State Route 111 | *177 | *176
|  | Bartemus Brook | At confluence with Nashua River | *167 | *165
|  |  | At upstream corporate limits | *168 | *166
|  | Lyle Reed Brook | At confluence with Nashua River | *169 | *167
|  |  | Approximately 0.75 mile upstream of State Route 11 | *169 | *167
Maps available for inspection at the Nashua City Hall, 229 Main Street, Nashua, New Hampshire.
Send comments to The Honorable Bernard A. Streeter, Mayor of the City of Nashua, City Hall, 229 Main Street, Nashua, New Hampshire 03061-2019.
New York | Corning (City), Steuben County | Post Creek | Approximately 0.52 mile upstream of the confluence with Chemung River | *923 | *924
|  |  | Approximately 1.55 miles upstream of the confluence with Chemung River | None | *958
Maps available for inspection at Corning Code Enforcement Office, 7 Nasser Civic Center, Corning, New York.
Send comments to The Honorable Alan Lewis, Sr., Mayor of the City of Corning, 7 Nasser Civic Center, Corning, New York 14830.
New York | Hamilton (Village), Madison County | Canal Tributary | At confluence with Payne Brook Tributary | None | *1,110
|  |  | At the upstream corporate limits | None | *1,116
|  | Payne Brook | Approximately 1,360 feet downstream of College Street | None | *1,101
|  |  | At upstream corporate limits | None | *1,125
|  | Payne Brook Tributary | At the confluence with Payne Brook | None | *1,104
|  |  | Approximately 80 feet upstream of Eaton Street | None | *1,119
Maps available for inspection at the Hamilton Village Hall, 3 Broad Street, Hamilton, New York.
Send comments to The Honorable Charlie Getchonis, Mayor of the Village of Hamilton, 3 Broad Street, Hamilton, New York 13346-0119.
New York | Lisle (Town), Broome County | Dudley Creek | Approximately 650 feet downstream of Owen Hill Road | None | *1,044
|  |  | At Popple Hill Road | None | *1,097
|  | Culver Creek | At the confluence with Dudley Creek | None | *1,075
|  |  | At Hunts Corners Road | None | *1,106
|  | Tioughnioga River | Approximately 3.12 miles downstream of Main Street | None | *979
|  |  | A point approximately 1.19 miles upstream of Main Street | None | *1,003
Maps available for inspection at the Lisle Town Office, 9234 NYS Route 79, Lisle, New York.
Send comments to Mr. James C. Dunham, Lisle Town Supervisor, P.O. Box 98, Lisle, New York 13797.
New York | Lockport (Town), Niagara County | Eighteen Mile Creek | At downstream corporate limits | None | *356
|  |  | Approximately 130 feet upstream of Stone Road | None | 365
|  | East Tributary to Eighteen Mile Creek | At downstream corporate limits | None | *360
|  |  | Approximately 1 mile upstream of State Route 104 | None | *363
|  | West Tributary to Eighteen Mile Creek | At confluence with Eighteen Mile Creek | None | *359
|  |  | At Lockport town line | None | *384
|  | East Branch to Eighteen Mile Creek | At downstream corporate limits | None | *357
|  |  | Approximately 1,500 feet upstream of upstream corporate limits | None | *375
|  | Gulf Branch | At Niagara Street | None | *472
|  |  | Just downstream of Upper Mountain Road | None | *584
|  | Gulf Tributary | At confluence with Gulf Branch | None | *497
|  |  | Approximately 2,250 feet upstream of confluence with Gulf Branch | None | *514
|  | Tonawanda Creek | Approximately 1 mile upstream of Rapids Road | *590 | *591
|  |  | At upstream corporate limits | *590 | *591
|  | Donner Creek | At the downstream corporate limits | *605 | *606
|  |  | Approximately 1,660 feet upsteam of Hamm Road | *617 | *618
Maps available for inspection at the Lockport Town Hall, 6560 Dysing Road, Lockport, New York.
Send comments to Mr. John Austin, Lockport Town Supervisor, Town Hall, 6560 Dysinger Road, Lockport, New York 14094.
Ohio | Portsmouth (City), Scioto County | Scioto River | From approximately 0.80 mile upstream of U.S. Route 52 | *536 | *535
|  | Ohio River | At the downstream corporate limit | *537 | *538
|  |  | Approximately 1.0 mile downstream of CSX Transportation | *537 | *538
Maps available for inspection at the Portsmouth Municipal Building, 728 2nd Street, Portsmouth, Ohio.
Send comments to The Honorable Gregory A. Bauer, Mayor of the City of Portsmouth, 728 2nd Street, Portsmouth, Ohio 45662.
Ohio | Rarden (Village), Scioto County | Rarden Creek | At Norfolk Southern Railway | None | *615
|  |  | At the upstream corporate limits | None | *615
Maps available for inspection at the Rarden City Hall, 1400 Main Street, Rarden, Ohio.
Send comments to The Honorable Anna J. Gardner, Mayor of the Village of Rarden, P.O. Box 8, Rarden, Ohio 45671.
Ohio | Scioto County (Unicorporated Areas) | Ohio River | Approximately 1,270 feet downstream of the confluence of Spencer Creek | *530 | *531
|  |  | Approximately 4.2 miles downstream of CSX Transportation | *536 | *537
Maps available for inspection at the Scioto County Courthouse, 602 7th Street, Room 1, Portsmouth, Ohio.
Send comments to Mr. Vern Riffe III, Chairman of the Scioto County Board of Commissioners, 602 7th Street, Room 1, Portsmouth, Ohio 45662.
Vermont | Hardwick (Town/Village), Caledonia County | Lamoille River Divergence | Approximately 460 feet upstream of the confluence with Lamoille River | *793 | *794
|  |  | At the divergence from Lamoille River | *805 | *804
Maps available for inspection at the Hardwick Town Hall, 20 Church Street, Hardwick, Vermont.
Send comments to Mr. Daniel P. Hill, Hardwick Town/Village Manager, P.O. Box 523, 20 Church Street, Hardwick, Vermont 05843.
Wisconsin | Bay City (Village), Pierce County | Mississippi River (Lake Pepin) | Entire shoreline within community | *681 | *682
|  | Bay City Creek | Approximately 520 feet downstream of CSX Transportation | *682 | *683
|  |  | Approximately 900 feet upstream of Great River Road | *691 | *690
Maps available for inspection at Bay City Village Hall, W6371 Main Street, Bay City, Wisconsin.
Send comments to Mr. James Turvaville, Bay City Village President, P.O. Box 9, Bay City, Wisconsin 54723.
Wisconsin | Chippewa Falls (City), Chippawa County | Duncan Creek | Upstream side of Bridge Street | *828 | *827
|  |  | Approximately 0.72 mile upstream of Glen Loch Dam | *899 | *898
Maps available for inspection at the Chippewa Falls City Hall, 30 West Central Street, Chippewa Falls, Wisconsin.
Send comments to The Honorable Virginia O. Smith, Mayor of the City of Chippewa Falls, 30 West Central Street, Chippewa Falls, Wisconsin 54729.

(Catalog of Federal Domestic Assistance No. 83.100, “Flood Insurance”)
Dated: December 11, 2001.
Robert F. Shea,
Acting Administrator, Federal Insurance and Mitigation Administration.

[FR Doc. 01-31371 Filed 12-19-01; 8:45 am]

BILLING CODE 6718-04-P